DEPARTMENT OF HOUSING AND URBAN DEVELOPMENT

[Docket No. FR-6000-FA-21]

Announcement of Funding Awards; Fair Housing Initiatives Program Fiscal Year 2016

AGENCY: Office of the Assistant Secretary for Fair Housing and Equal Opportunity, the Department of Housing and Urban Development, HUD.

ACTION: Announcement of funding awards.

SUMMARY: In accordance with section 102(a)(4)(C) of the Department of Housing and Urban Development Reform Act of 1989, this announcement notifies the public of funding decisions made by the Department under the Notices of Funding Availability (NOFAs) for the Fair Housing Initiatives Program (FHIP) for Fiscal Year (FY) 2016. This announcement contains the names and addresses of those award recipients selected for funding based on the rating and ranking of all applications and the amount of the awards.

FOR FURTHER INFORMATION CONTACT: Myron Newry, Director, FHIP Division, Office of Programs, Office of Fair Housing and Equal Opportunity, Department of Housing and Urban Development, 451 Seventh Street, SW., Room 5230, Washington, DC 20410. Telephone number (202) 402-7095 (this is not a toll-free number). Persons with hearing or speech impairments may access this number through TTY by calling the toll-free Federal Relay Service at 800-877-8339.

SUPPLEMENTARY INFORMATION: Title VIII of the Civil Rights Act of 1968, as amended, 42 U.S.C. 3601-19 (the Fair Housing Act) provides the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR part 125.

On May 4, 2016, the Department posted three FY 2016 NOFAs, which announced the availability of approximately $38,300,000 to be utilized for FHIP projects and activities. Funding availability for discretionary grants for the FHIP NOFAs included: The Private Enforcement Initiative (PEI) ($30,350,000), the Education and Outreach Initiative (EOI) ($7,450,000), and the Fair Housing Organizations Initiative (FHOI) ($500,000). This Notice thereby announces grant awards for the FY 2016 PEI, EOI and FHOI FHIP NOFAs.

For the FY 2016, the Department reviewed, evaluated and scored the applications received based on the criteria in the FY 2016 NOFAs. As a result, HUD has funded the applications announced in Appendix A, and in accordance with section 102(a)(4)(C) of the Department of Housing and Urban Development Reform Act of 1989 (103 Stat. 1987, 42 U.S.C. 3545). The Department is hereby publishing details concerning the recipients of funding awards in Appendix A of this document.

The Catalog of Federal Domestic Assistance Number for currently funded Initiatives under the Fair Housing Initiatives Program are 14.416, 14.417 and 14.418.

Dated: November 23, 2016.
Gustavo Velasquez,
Assistant Secretary for Fair Housing and Equal Opportunity.

Appendix A—FY2016 Fair Housing Initiatives Program Awards

Applicant name | Contact | Region | Award amt.
Education and Outreach Initiative—General Component
Champlain Valley Office of Economic Opportunity, Inc., 255 South Champlain Street, Suite 9, Burlington, VT 05401 | Ted Wimpey, 802-660-3456 | 1 | $124,999.00
Connecticut Fair Housing Center, Inc., 221 Main Street, Hartford, CT 06106 | Erin Kemple, 860-247-4400 | 1 | 125,000.00
Fair Housing Center of Greater Boston, 100 Terrace Street, Boston, MA 02120 | Robert Terrell, 617-427-9740 | 1 | 124,999.98
HAP, Inc., 322 Main Street, Springfield, MA 01105 | Marcus Williams, 413-233-1732 | 1 | 125,000.00
Southcoast Fair Housing, Inc., 721 County Street, New Bedford, MA 02740 | Kristina da Fonseca, 774-473-8333 | 1 | 125,000.00
Suffolk University, 8 Ashburton Place, Boston, MA 02108 | Jamie Langowski, 617-573-8778 | 1 | 123,778.00
Brooklyn Legal Services Corporation A, 260 Broadway, Brooklyn, NY 11211 | Gloria Ramon, 718-487-2328 | 2 | 125,000.00
Chautauqua Opportunities, Inc., 17 West Courtney Street, Dunkirk, NY 14048 | William Vogt, 716-661-9430 | 2 | 125,000.00
Citizen Action of New Jersey, 744 Broad Street, Newark, NJ 07102 | Leila Amirhamzeh, 973-643-8800 | 2 | 125,000.00
CNY Fair Housing, Inc., 731 James Street, Suite 200, Syracuse, NY 13203 | Sally Santangelo, 315-471-0420 | 2 | 125,000.00
Westchester Residential Opportunities, Inc., 470 Mamaroneck Avenue, Suite 410, White Plains, NY 10605 | Geoffrey Anderson, 914-428-4507 | 2 | 125,000.00
Equal Rights Center, 11 Dupont Circle NW., Washington, DC 20036 | Kate Scott, 202-370-3220 | 3 | 125,000.00
Hampton Roads Community, Action Program, 2410 Wickham Avenue, Newport News, VA 23607 | Carl Shirley, 757-247-0379 | 3 | 65,271.95
Housing Counseling Services, 2410 17th Street NW., Washington, DC 20009 | Marian Siegel, 202-667-7006 | 3 | 125,000.00
Housing Opportunities Made Equal of Virginia, Inc., 626 E. Broad Street, Suite 400, Richmond, VA 23219 | Andrew Haugh, 804-237-7542 | 3 | 125,000.00
National Community Reinvestment Coalition, Inc., 727 15th Street NW., Suite 900, Washington, DC 20005 | Samira Cook Gaines, 202-628-8866 | 3 | 124,999.06
Southwestern Pennsylvania Legal Services, Inc., 10 West Cherry Avenue, Washington, PA 15301 | Brian Gorman, 724-225-6170 | 3 | 125,000.00
Central Alabama Fair Housing Center, 2867 Zelda Road, Montgomery, AL 36106 | Faith Cooper, 334-263-4663 | 4 | 124,979.00
Corporacion de Desarrollo Economico, De Ceiba, 555 Julian Rivera Street, Ceiba, PR 00735 | Olga Roche, 787-885-3020 | 4 | 87,177.00
Greenville County Human Relations Commission, 301 University Ridge, Suite 1600, Greenville, SC 29601 | Yvonne Duckett, 864-467-7095 | 4 | 122,090.00
Legal Aid Society of Palm Beach County, Inc., 423 Fern Street, Suite 200, West Palm Beach, FL 33401 | Robert Bertisch, 561-655-8944 | 4 | 125,000.00
Mississippi Center for Justice, 5 Old River Place, Jackson, MS 39202 | John Jopling, 228-435-7284 | 4 | 125,000.00
Central Ohio Fair Housing Association, Inc., 605 N. High Street, #V57, Columbus, OH 43215 | Jim McCarthy, 614-344-4663 | 5 | 125,000.00
Fair Housing Center of Central Indiana, Inc., 615 N. Alabama Street, Suite 426, Indianapolis, IN 46204 | Amy Nelson, 317-644-0673 | 5 | 87,513.00
Fair Housing Center of Southwest Michigan, 405 W. Michigan, Kalamazoo, MI 49007 | Robert Ellis, 269-276-9100 | 5 | 125,000.00
Fair Housing Center of West Michigan, 20 Hall Street SE., Grand Rapids, MI 49507 | Nancy Haynes, 616-451-2980 | 5 | 125,000.00
Fair Housing Contact Service, Inc., 441 Wolf Ledges Parkway, Suite 200, Akron, OH 44311 | Tamala Skipper, 330-376-6191 | 5 | 125,000.00
Fair Housing Opportunities, Inc., dba, Fair Housing Center, 432 N. Superior Street, Toledo, OH 43606 | Michael Fehlen, 419-243-6163 | 5 | 125,000.00
Fair Housing Resource Center, Inc., 1100 Mentor Avenue, Painesville, OH 44077 | Patricia Kidd, 440-392-0147 | 5 | 125,000.00
Housing Opportunities Made Equal of Greater Cincinnati, Inc., 2400 Reading Road, Suite 118, Cincinnati, OH 45202 | Jeniece Jones, 513-977-2620 | 5 | 125,000.00
John Marshall Law School, 315 S. Plymouth Court, Chicago, IL 60604 | Michael Seng, 312-987-2397 | 5 | 124,972.75
Miami Valley Fair Housing Center, Inc., 505 Riverside Drive, Dayton, OH 45405 | Jim McCarthy, 937-223-6035 | 5 | 125,000.00
Ohio State Legal Services Association, 555 Buttles Avenue, Columbus, OH 43215 | Stephanie Harris, 614-824-2601 | 5 | 125,000.00
Open Communities, 614 Lincoln Avenue, Winnetka, IL 60093 | David Luna, 847-501-5760 | 5 | 95,110.54
South Suburban Housing Center, 18220 Harwood Avenue, Suite 1, Homewood, IL 60430 | John Petruszak, 708-957-4674 | 5 | 125,000.00
City of Garland, 210 Carver Street, 102A, Garland, TX 75040 | Jose Alvardo, 972-205-3316 | 6 | 125,000.00
Greater New Orleans Fair Housing Action Center, Inc., 404 South Jefferson Davis Parkway, New Orleans, LA 70119 | Cashauna Hill, 504-208-5916 | 6 | 125,000.00
Missouri Commission on Human Rights, 315 W. Truman Blvd., Jefferson City, MO 65102 | Alisa Warren, 314-340-4717 | 7 | 124,989.00
Denver Metro Fair Housing Center, 3280 Downing Street, Denver, CO 80205 | Arturo Alvarado, 720-279-4291 | 8 | 124,999.72
California Rural Legal Assistance, Inc., 2201 Broadway, Suite 815, Oakland, CA 94105 | Susan Podesta, 530-742-5191 | 9 | 125,000.00
Mental Health Advocacy Services, Inc., 3255 Wilshire Blvd., Suite 902, Los Angeles, CA 90010 | James Preis, 213-389-2077 | 9 | 125,000.00
Orange County Fair Housing Council, Inc., 1515 Brookhollow Drive, Santa Ana, CA 92705 | David Levy, 714-569-0823 | 9 | 125,000.00
Project Sentinel Inc., 1490 Camino Real, Santa Clara, CA 95050 | Ann Marquart, 408-470-3739 | 9 | 125,000.00
Southwest Fair Housing Council, 2030 E. Broadway Blvd., Suite 101, Tucson, AZ 85719 | Jay Young, 520-798-1568 | 9 | 124,231.00
Alaska Legal Services Corporation, 1016 W. 6th Avenue, Suite 200, Anchorage, AK 99501 | Nikole Nelson, 907-222-4508 | 10 | 125,000.00
Fair Housing Center of Washington, 1517 South Fawcett, Suite 250, Tacoma, WA 98302 | Lauren Walker Lee, 253-274-9523 | 10 | 125,000.00
Fair Housing Council of Oregon, 1221 SW., Yamhill Street, Suite 305, Portland, OR 97204 | Allan Lazo, 503-223-8197 | 10 | 125,000.00
Intermountain Fair Housing Council, Inc., 4696 W. Overland Road, Boise, ID 83705 | Zoe Ann Olson, 208-383-0695 | 10 | 119,890.00
Northwest Fair Housing Alliance, 35 W. Main, Spokane, WA 99201 | Marley Hochendoner, 509-209-2667 | 10 | 125,000.00
Education and Outreach Initiative—National Media Campaign Component
National Fair Housing Alliance, 1101 Vermont Avenue NW., Suite 710, Washington, DC 20005 | Catherine Cloud, 202-898-1661 | 3 | 1,249,997.00
Education and Outreach Initiative—Tester Coordinator Training Component
Metropolitan Milwaukee Fair Housing Council, Inc. 759 North Milwaukee Street, Milwaukee, WI 53202 | William Tisdale, 414-278-1240 | 5 | 249,938.00
Fair Housing Organizations Initiative—Continuing Development General Component
Reinvestment Fund, 1700 Market Street, Philadelphia, PA 19103 | Ira Goldstein, 215-547-5827 | 3 | 249,809.00
Mississippi Center for Justice, 5 Old River Place, Jackson, MS 39202 | John Jopling, 228-435-7284 | 4 | 86,473.00
High Plains Fair Housing Center, 1405 1st Avenue, North Grand Forks, ND 58203 | Michelle Rydz, 701-335-9244 | 8 | 163,718.00
Private Enforcement Initiative/Lending Component.
Westchester Residential Opportunities, Inc. 470 Mamaroneck Avenue, Suite 410, White Plains, NY 10605 | Geoffrey Anderson, 914-428-4507 | 2 | 325,000.00
National Fair Housing Alliance, 1101 Vermont Avenue NW., Suite 710, Washington, DC 20005 | Catherine Cloud, 202-898-1661 | 3 | 324,999.00
Mid-Minnesota Legal Assistance, 430 First Avenue, North Suite 300, Minneapolis, MN 55401 | Lisa Cohen, 612-746-3770 | 5 | 325,000.00
Private Enforcement Initiative/Multi-Year Component
Community Legal Aid, Inc., 405 Main Street, Worcester, MA 01608 | Faye Rachlin, 508-425-2794 | 1 | 300,000.00
Connecticut Fair Housing Center, Inc., 221 Main Street, Hartford, CT 06106 | Erin Kemple, 860-247-4400 | 1 | 300,000.00
Fair Housing Center of Greater Boston, 100 Terrance Street, Boston, MA 02120 | Robert Terrell, 617-427-9740 | 1 | 300,000.00
Massachusetts Fair Housing Center, Inc., 57 Suffolk Street, Holyoke, MA 01040 | Meris Bergquist, 413-539-9796 | 1 | 300,000.00
New Hampshire Legal Assistance, 117 North State Street, Concord, NH 03301 | Christine Wellington, 603-223-9750 | 1 | 300,000.00
Pine Tree Legal Assistance, 88 Federal Street, P.O. Box 547, Portland, ME 04112 | Helen Meyer, 207-774-4753 | 1 | 300,000.00
SouthCoast Fair Housing, Inc., 721 County Street, New Bedford, MA 02740 | Kristina da Fonseca, 774-473-8333 | 1 | 300,000.00
Suffolk University, 8 Ashburton Place, Boston, MA 02108 | Jamie Langowski, 617-725-4145 | 1 | 300,000.00
Vermont Legal Aid, Inc., 264 North Winooski Avenue, Burlington, VT 05402 | Rachel Batterson, 802-863-5620 | 1 | 300,000.00
Brooklyn Legal Services (formerly South Brooklyn Legal Services), 105 Court Street, Brooklyn, NY 11201 | Meghan Faux, 718-246-3276 | 2 | 300,000.00
Brooklyn Legal Services Corporation, A 260 Broadway, Brooklyn, NY 11211 | Gloria Ramon, 718-487-2328 | 2 | 300,000.00
CNY Fair Housing, Inc., 731 James Street, Suite 200, Syracuse, NY 13203 | Sally Santangelo, 315-471-0420 | 2 | 300,000.00
Fair Housing Council of Northern New Jersey, 131 Main Street, Suite 140, Hackensack, NJ 07601 | Lee Porter, 201-489-3552 | 2 | 300,000.00
Fair Housing Justice Center, Inc., 5 Hanover Square, 17th Floor, New York, NY 10004 | Fred Freiberg, 212-400-8201 | 2 | 300,000.00
Housing Opportunities Made Equal Inc., 1542 Main Street, 3rd Floor, Buffalo, NY 14209 | Scott Gehl, 716-854-1400 | 2 | 300,000.00
Legal Assistance of Western NY, 1 West Main Street, Suite 400, Rochester, NY 14614 | Lori O'Brien, 585-295-5610 | 2 | 300,000.00
Long Island Housing Services, Inc., 640 Johnson Avenue, Suite 8, Bohemia, NY 11716 | Michelle Santantonio, 631-567-5111 | 2 | 300,000.00
Westchester Residential Opportunities, Inc., 470 Mamaroneck Avenue, Suite 410, White Plains, NY 10605 | Geoffrey Anderson, 914-428-4507 | 2 | 300,000.00
Baltimore Neighborhoods, Inc., 2530 N. Charles Street, Baltimore, MD 21218 | Barbara Wilson, 410-243-4468 | 3 | 300,000.00
Community Legal Aid Society, Inc., 100 W. 10th Street, Suite 801, Wilmington, DE 19801 | William Dunne, 302-575-0660 | 3 | 300,000.00
Equal Rights Center, 11 Dupont Circle, NW., Washington, DC 20036 | Kate Scott, 202-370-3220 | 3 | 300,000.00
Fair Housing Council of Suburban Philadelphia, Inc., 455 Maryland Drive, Suite 190, Fort Washington, PA 19034 | James Berry, 267-419-8918 | 3 | 300,000.00
Fair Housing Partnership of Greater Pittsburgh, 2840 Liberty Avenue, Pittsburgh, PA 15222 | Jay Dworin, 412-391-2535 | 3 | 300,000.00
Fair Housing Rights Center in Southeastern Pennsylvania, 444 N. 3rd Street, Suite 110, Philadelphia, PA 19123 | Angela McIver, 215-625-0700 | 3 | 300,000.00
Housing Opportunities Made Equal of Virginia, Inc., 626 E. Broad Street, Suite 400, Richmond, VA 23219 | Andrew Haugh, 804-237-7542 | 3 | 300,000.00
National Community Reinvestment Samira Coalition, Inc., 727 15th Street NW., Suite 900, Washington, DC 20005 | Cook Gaines, 202-628-8866 | 3 | 300,000.00
National Fair Housing Alliance, 1101 Vermont Avenue NW., Washington, DC 20005 | Catherine Cloud, 202-898-1661 | 3 | 300,000.00
Northern West Virginia Center for Independent Living, 601 East Brockway Avenue, Morgantown, WV 26501 | Jan Derry, 304-296-6091 | 3 | 300,000.00
Southwestern Pennsylvania Legal Services, Inc., 10 West Cherry Avenue, Washington, PA 15301 | Brian Gorman, 724-225-6170 | 3 | 300,000.00
Bay Area Legal Services, Inc., 1302 North 19th Street, Suite 400, Tampa, FL 33603 | Migdalia Figueroa, 813-232-1222 | 4 | 300,000.00
Central Alabama Fair Housing Center, 2867 Zelda Road, Montgomery, AL 36106 | Faith Cooper, 334-263-4663 | 4 | 300,000.00
Community Legal Services of Mid-Florida, Inc., 128 Orange Avenue, Daytona Beach, FL 32114 | Suzanne Edmunds, 386-255-6573 | 4 | 300,000.00
Fair Housing Center of Northern Alabama, 1820 7th Avenue North, Suite 110, Birmingham, AL 35203 | Lila Hackett, 205-324-0111 | 4 | 202,816.03
Fair Housing Center of the Greater Palm Beaches, Inc. 1300 W. Lantana Road, Suite 200, Lantana, FL 33462 | Vince Larkin, 561-533-8717 | 4 | 300,000.00
Fair Housing Continuum, Inc., 4760 N. Hwy. US 1, Suite 203, Melbourne, FL 32935 | David Baade, 321-757-3532 | 4 | 300,000.00
Housing Education and Economic Development, Inc., 3405 Medgar Evers Blvd., Jackson, MS 39213 | Charles Harris, 601-981-1960 | 4 | 233,538.00
Housing Opportunities Project for Excellence, Inc., 11501 NW., 2nd Avenue, Miami, FL 33168 | Keenya Robertson, 305-759-7755 | 4 | 300,000.00
Jacksonville Area Legal Aid, Inc., 126 West Adams Street, Jacksonville, FL 32202 | James Kowalski, 904-356-8371 | 4 | 424,979.00
Legal Aid of North Carolina, Inc., 224 S. Dawson Street, Raleigh, NC 27601 | Jeffrey Dillman, 919-861-1884 | 4 | 300,000.00
Legal Aid Society of Palm Beach County, Inc., 423 Fern Street, Suite 200, West Palm Beach, FL 33401 | Robert Bertisch, 561-655-8944 | 4 | 300,000.00
Lexington Fair Housing Council, Inc., 207 E. Reynolds Road, Suite 130, Lexington, KY 40517 | Arthur Crosby, 859-971-8067 | 4 | 300,000.00
Metro Fair Housing Services, Inc., 215 Lakewood, SW., Atlanta, GA 30315 | Gail Williams, 404-524-0000 | 4 | 300,000.00
Mobile Fair Housing Center, Inc., P.O. Box 161202, Mobile, AL 36616 | Teresa Bettis, 251-479-1532 | 4 | 300,000.00
Tennessee Fair Housing Council, Inc., 107 Music City Circle, Suite 318, Nashville, TN 37214 | Tracey McCartney, 615-874-2344 | 4 | 300,000.00
West Tennessee Legal Services, Inc., 210 West Main Street, Jackson, TN 38301 | Catherine Clayton, 731-426-1311 | 4 | 300,000.00
Access Living of Metropolitan, Chicago, 115 West Chicago Avenue, Chicago, IL 60654 | Bianca Barr, 312-640-2113 | 5 | 300,000.00
Chicago Lawyers' Committee for Civil Rights Under Law, Inc., 100 North LaSalle Street, Suite 600, Chicago, IL 60602 | Bonnie Allen, 312-202-3652 | 5 | 300,000.00
Fair Housing Center of Central Indiana, Inc., 615 N. Alabama Street, Suite 426, Indianapolis, IN 46204 | Amy Nelson, 317-644-0673 | 5 | 300,000.00
Fair Housing Center of Metropolitan Detroit, 220 Bagley Street, Suite 102, Detroit, MI 48226 | Margaret Brown, 313-963-1274 | 5 | 300,000.00
Fair Housing Center of Southeastern Michigan, P.O. Box 7825, Ann Arbor, MI 48107 | Pamela Kisch, 734-994-3426 | 5 | 300,000.00
Fair Housing Center of Southwest Michigan, 405 W. Michigan, Kalamazoo, MI 49007 | Robert Ells, 269-276-9100 | 5 | 300,000.00
Fair Housing Center of West Michigan, 20 Hall Street SE., Grand Rapids, MI 49507 | Nancy Haynes, 616-451-2980 | 5 | 300,000.00
Fair Housing Contact Services, Inc., 441 Wolf Ledges Parkway, Suite 200, Akron, OH 44311 | Tamala Skipper, 330-376-6191 | 5 | 300,000.00
Fair Housing Opportunities of NW., Ohio, Inc., 432 N. Superior Street, 432 N. Superior Street, Toledo, OH 43604 | Michael Fehlen, 419-243-6163 | 5 | 300,000.00
Fair Housing Resource Center, Inc., 1100 Mentor Avenue, Painesville, OH 44077 | Patricia Kidd, 440-392-0147 | 5 | 300,000.00
HOPE Fair Housing Center, 245 W. Roosevelt Road, Building 15, Suite 107, West Chicago, IL 60185 | Anne Houghtaling, 630-690-6500 | 5 | 300,000.00
Housing Opportunities Made Equal of Greater Cincinnati, Inc., 2400 Reading Road, Suite 118, Cincinnati, OH 45202 | Jeniece Jones, 513-721-4663 | 5 | 300,000.00
Housing Research and Advocacy Center, 2728 Euclid Avenue, Suite 200, Cleveland, OH 44115 | Carrie Pleasants, 216-361-9240 | 5 | 300,000.00
John Marshall Law School, 315 S. Plymouth Court Chicago, IL 60604 | Michael Seng, 312-986-2397 | 5 | 300,000.00
Legal Services of Eastern Michigan, 436 S. Saginaw Street, Suite 101, Flint, MI 48502 | Jill Nylander, 810-234-2621 | 5 | 300,000.00
Metropolitan Milwaukee Fair Housing Council, Inc., 600 East Mason Street, Milwaukee, WI 53202 | William Tisdale, 414-278-1240 | 5 | 300,000.00
Miami Valley Fair Housing Center, Inc., 505 Riverside Drive, Dayton, OH 45405 | Jim McCarthy, 937-223-6035 | 5 | 300,000.00
Mid-Minnesota Legal Assistance, 430 First Avenue North, Suite 300, Minneapolis, MN 55401 | Lisa Cohen, 612-746-3770 | 5 | 300,000.00
Open Communities, 614 Lincoln Avenue, Winnetka, IL 60093 | David Luna, 847-501-5760 | 5 | 300,000.00
Prairie State Legal Services, Inc., 303 N. Main Street, Suite 600, Rockford, IL 61101 | David Wolowitz, 630-580-3309 | 5 | 300,000.00
South Suburban Housing Center, 18220 Harwood Avenue, Suite 1, Homewood, IL 60430 | John Petruszak, 708-957-4674 | 5 | 300,000.00
Austin Tenants Council, Inc., 1640B E. Second Street, Suite 150, Austin, TX 78702 | Juliana Gonzales, 512-474-7007 | 6 | 300,000.00
Greater New Orleans Fair Housing Action Center, Inc., 404 South Jefferson Davis Parkway, New Orleans, LA 70119 | Cashauna Hill, 504-208-5916 | 6 | 300,000.00
Greater Houston Fair Housing Center, P.O. Box 292, Houston, TX 77001 | Daniel Bustamante, 713-641-3247 | 6 | 300,000.00
Legal Aid Services of Oklahoma, Inc., 2915 N. Classen Blvd. Oklahoma City, OK 73106 | Michael Figgins, 405-488-6768 | 6 | 300,000.00
Metropolitan Fair Housing Council of Oklahoma City, 312 N 28th Street, Suite 112, Oklahoma City, OK 73105 | Mary Dulan, 405-232-3247 | 6 | 300,000.00
San Antonio Fair Housing Council, Inc., 4414 Centerview Drive, Suite 229, San Antonio, TX 78228 | Sandra Tamez, 210-733-3247 | 6 | 375,000.00
Family Housing Advisory Services, Inc., 2401 Lake Street, Omaha, NE 68111 | Joseph Garcia, 402-934-9996 | 7 | 300,000.00
Metropolitan St. Louis Equal Housing and Opportunity Council, 1027 S. Vandeventer Avenue, 6th Floor, St. Louis, MO 63110 | Willie Jordan, 314-448-9063 | 7 | 300,000.00
Denver Metro Fair Housing Center, 3401 Quebec Street, Denver, CO 80207 | Arturo Alvarado, 720-279-4291 | 8 | 300,000.00
Disability Law Center, 205 N 400 W., Salt Lake City, UT 84103 | Adina Zahradnikova, 801-363-1347 | 8 | 282,830.00
Montana Fair Housing, Inc., 519 East Front Street, Butte, MT 59701 | Pamela Bean, 406-782-2573 | 8 | 205,838.00
Arizona Fair Housing Center, 615 N. 5th Avenue, Phoenix, AZ 85003 | Kanitta Padilla, 602-548-1599 | 9 | 300,000.00
Bay Area Legal Aid, 1735 Telegraph Avenue, Oakland, CA 94612 | Jaclyn Pireno, 510-250-5229 | 9 | 300,000.00
California Rural Legal Assistance, Inc., 2201 Broadway, Suite 815 Oakland, CA 94105 | Susan Podesta, 530-742-5191 | 9 | 300,000.00
Fair Housing Council of Central California, 333 W. Shaw Avenue, Suite 14, Fresno, CA 93704 | Marilyn Borelli, 559-244-2950 | 9 | 300,000.00
Fair Housing Council of Riverside County, Inc., 3933 Mission Inn Avenue, Riverside, CA 92501 | Rose Mayes, 951-682-6581 | 9 | 300,000.00
Fair Housing of Marin, 1314 Lincoln Avenue, San Rafael, CA 94901 | Caroline Peattie, 415-457-5025 | 9 | 300,000.00
Greater Bakersfield Legal Assistance, Inc., 615 California Avenue, Bakersfield, CA 93304 | Estela Casas, 661-334-4660 | 9 | 300,000.00
Greater Napa Valley Fair Housing Center, 1804 Solcol Avenue, Napa, CA 94559 | Pablo Zatarain, 650-815-6199 | 9 | 300,000.00
Inland Mediation Board, 1500 South Haven Avenue, Suite 101, Ontario, CA 91761 | Lynne Anderson, 909-984-2254 | 9 | 300,000.00
Legal Aid Society of Hawaii, 924 Bethel Street, Honolulu, HI 96813 | Elise Von Dohlen, 808-527-8056 | 9 | 350,000.00
Legal Aid Society of San Diego, Inc., 110 S Euclid Avenue, San Diego, CA 92114 | Branden Butler, 619-471-2623 | 9 | 300,000.00
Orange County Fair Housing Council, 1516 Brookhollow Drive, Santa Ana, CA 92705 | David Levy, 714-569-0823 | 9 | 300,000.00
Project Sentinel Inc., 1490 Camino Real, Santa Clara, CA 95050 | Ann Marquart, 888-324-7468 | 9 | 300,000.00
Silver State Fair Housing Council, 110 West Arroyo Street, Suite A, Reno, NV 89509 | Katherine Knister, 775-324-0990 | 9 | 300,000.00
Southern California Housing Rights Center, 3255 Wilshire Blvd., Los Angeles, CA 90010 | Chancela Al-Mansour, 213-387-8400 | 9 | 300,000.00
Southwest Fair Housing Council, 2030 E. Broadway Blvd., Suite 101, Tucson, AZ 85719 | Jay Young, 520-798-1568 | 9 | 300,000.00
Alaska Legal Services Corporation, 1016 W. 16th Avenue, Suite 200, Anchorage, AK 99501 | Nikole Nelson, 907-222-4508 | 10 | 300,000.00
Fair Housing Center of Washington, 1517 South Fawcett, Suite 200, Tacoma, WA 98302 | Lauren Walker Lee, 253-274-9523 | 10 | 300,000.00
Fair Housing Council of Oregon, 1221 SW. Yamhill Street, Suite 305, Portland, OR 97204 | Allan Lazo, 503-223-8197 | 10 | 300,000.00
Intermountain Fair Housing, Council, Inc., 5460 W. Franklin Road, Suite M 200, Boise, ID 83702 | Zoe Ann Olson, 208-383-0695 | 10 | 300,000.00
Northwest Fair Housing Alliance, 35 W., Main, Spokane, WA 99201 | Marley Hochendoner, 509-209-2667 | 10 | 300,000.00

[FR Doc. 2016-29756 Filed 12-12-16; 8:45 am]

BILLING CODE 4210-67-P